ENVIRONMENTAL PROTECTION AGENCY

40 CFR Part 52

[TX-133-1-7493b; FRL-7011-7]

Approval and Promulgation of Implementation Plans; Texas; Houston/Galveston Volatile Organic Compound Reasonably Available Control Technology Revision

AGENCY: Environmental Protection Agency (EPA).

ACTION: Proposed rule.

SUMMARY: The EPA is proposing to take direct final action to approve revisions to the Texas State Implementation Plan (SIP). This rulemaking covers four separate actions approving revisions to the Texas Rules for Control of Air Pollution from Volatile Organic Compounds (VOC Rules), 30 TAC Chapter 115. First, EPA is approving amendments to sections 115.161, 115.162, 115.164-115.167, and 115.169, concerning Batch Processes. Second, EPA is approving amendments to sections 115.120, 115.122, 115.125-115.127, and 115.129, concerning control requirements for bakeries and testing requirements for vents. Third, we are approving amendments to section 115.449, concerning Offset Lithographic Printing. Finally, EPA is approving numerous minor administrative changes to the VOC rules. The Texas Natural Resource Conservation Commission (TNRCC or Commission) adopted these revisions to Chapter 115, concerning Control of Air Pollution from Volatile Organic Compounds (VOC), and to the State Implementation Plan (SIP) in order to meet the Clean Air Act (Act) Reasonably Available Control Technology (RACT) requirements and to control VOC emissions in the Houston/Galveston ozone nonattainment area (HGA). By approving these SIP revisions, EPA is finding that RACT will be implemented for VOC emissions resulting from the operation of batch processes, bakeries (vent gas control), and offset lithography printing sources in the HGA area accordance with the requirements of the Act. In addition, the changes to test methods for vent gas control and various other minor changes will clarify and strengthen the SIP.

In the “Rules and Regulations” section of this Federal Register, EPA is approving the State's SIP revision as a direct final rule without prior proposal because the EPA views this as a noncontroversial revision and anticipates no adverse comment. The EPA has explained its reasons for this approval in the preamble to the direct final rule. If EPA receives no relevant adverse comments, the EPA will not take further action on this proposed rule. If EPA receives relevant adverse comment, EPA will withdraw the direct final rule and it will not take effect. The EPA will address all public comments in a subsequent final rule based on this proposed rule. The EPA will not institute a second comment period on this action. Any parties interested in commenting must do so at this time.

DATES: Written comments must be received by August 15, 2001.

ADDRESSES: Written comments should be addressed to Mr. Thomas H. Diggs, Chief, Air Planning Section (6PD-L), at the EPA Region 6 Office listed below. Copies of documents relevant to this action are available for public inspection during normal business hours at the following locations.

Environmental Protection Agency, Region 6, Air Planning Section (6PD-L), 1445 Ross Avenue, Dallas, Texas 75202-2733.

Texas Natural Resource Conservation Commission, Office of Air Quality, 12124 Park 35 Circle, Austin, Texas 78753.

Anyone wanting to examine these documents should make an appointment with the appropriate office at least two working days in advance.

FOR FURTHER INFORMATION CONTACT: Mr. Kenneth Boyce, Air Planning Section (6PD-L), EPA Region 6, 1445 Ross Avenue, Dallas, Texas 75202-2733, telephone (214) 665-7259.

SUPPLEMENTARY INFORMATION: This document concerns Control of Air Pollution from Control of Air Pollution from VOC emissions resulting from the operation of batch processes, bakeries (vent gas control), and offset lithography printing sources in accordance with the requirements of the Act. For further information, please see the information provided in the direct final action that is located in the “Rules and Regulations” section of this Federal Register publication.

Authority: 42 U.S.C. 7401 et seq.

Dated: July 3, 2001.
Jerry Clifford,
Acting Regional Administrator, Region 6.

[FR Doc. 01-17468 Filed 7-13-01; 8:45 am]

BILLING CODE 6560-50-P